DEPARTMENT OF ENERGY

Federal Energy Regulatory Commission

[Project No. 2662-009; Project No. 12968-000]

FirstLight Hydro Generating Company; City of Norwich Department of Public Utilities; Notice of Intent To File Competing License Applications, Filing of Pre-Application Documents (PADs), Commencement of Licensing Proceeding, Scoping, Solicitation of Study Requests and Comments on the PADs and Scoping Document

November 14, 2007.

a. Type of Filing: Notices of Intent to File Competing License Applications for a New License and Commencing Licensing Proceeding.

b. Project Nos.: 2662-009 & 12968-000.

c. Date Filed: August 30, 2007.

d. Submitted By: Existing licensee—FirstLight Hydro Generating Company (FirstLight); and Competitor—City of Norwich Department of Public Utilities (Norwich Public Utilities).

e. Name of Project: Scotland Hydroelectric Project.

f. Location: On the Shetucket River, in Windham County, Connecticut. The project does not occupy federal lands.

g. Filed Pursuant to: 18 CFR part 5 of the Commission's Regulations.

h. Potential Applicants' Contacts:

For Project No. 2662: John Whitfield, Senior Project Engineer, FirstLight Hydro Generating Company, 20 Church Street, Hartford, CT 06103.

For Project No. 12968: John F. Bilda, General Manager, Norwich Public Utilties, 16 South Golden Street, Norwich, CT 06360.

i. FERC Contact: Sarah Florentino at (202) 502-6863 or e-mail at sarah.florentino@ferc.gov.

j. We are asking federal, state, local, and tribal agencies with jurisdiction and/or special expertise with respect to environmental issues to cooperate with us in the preparation of the environmental document. Agencies who would like to request cooperating status should follow the instructions for filing comments described in the paragraphs below. Cooperating agencies should note the Commission's policy that agencies that cooperate in the preparation of the environmental document cannot also intervene. See 94 FERC ¶ 61,076 (2001).

k. With this notice, we are initiating informal consultation with: (a) The U.S. Fish and Wildlife Service and/or NOAA Fisheries under section 7 of the Endangered Species Act and the joint agency regulations thereunder at 50 CFR part 402; and (b) the State Historic Preservation Officer, as required by Section 106, National Historical Preservation Act, and the implementing regulations of the Advisory Council on Historic Preservation at 36 CFR 800.2.

l. By letters dated September 17, 2007, we designated FirstLight and Norwich Public Utilities as the Commission's nonfederal representatives for carrying out informal consultation pursuant to section 106 of the National Historic Preservation Act.

m. FirstLight and Norwich Public Utilities both filed Pre-Application Documents (PADs; including a proposed process plan and schedule) with the Commission, pursuant to 18 CFR 5.6 of the Commission's regulations.

n. Copies of both PADs are available for review at the Commission in the Public Reference Room or may be viewed on the Commission's Web site (http://www.ferc.gov), using the “eLibrary” link. Enter the docket number, excluding the last three digits in the docket number field to access the documents. For assistance, contact FERC Online Support at FERCONlineSupport@ferc.gov or toll free at 1-866-208-3676, of for TTY, (202) 502-8659. Copies are also available for inspection and reproduction at the addresses in paragraph h.

Register online at http://ferc.gov/esubscribenow.htm to be notified via e-mail of new filing and issuances related to this or other pending projects. For assistance, contact FERC Online Support.

o. With this notice, we are soliciting comments on the applicants' PADs and Commission staff's Scoping Document 1 (SD1), as well as study requests. All comments on the PADs and SD1, and study requests should be sent to the addresses above in paragraph h. In addition, all comments on the PADs and SD1, study requests, requests for cooperating agency status, and all communications to and from Commission staff related to the merits of the potential applications (original and eight copies) must be filed with the Commission at the following address: Kimberly D. Bose, Secretary, Federal Energy Regulatory Commission, 888 First Street, NE., Washington, DC 20426. All filings with the Commission must include, on the first page, the project name (Scotland Hydroelectric Project) and number (“P-2662-009” for FirstLight, and/or “P-12968-000” for Norwich Public Utilities), and bear the heading “Comments on Pre-Application Document,” “Study Requests,” “Comments on Scoping Document 1,” “Request for Cooperating Agency Status,” or “Communications to and from Commission Staff.” Any individual or entity interested in submitting study requests, commenting on the PADs or SD1, and any agency requesting cooperating status must do so by December 31, 2007.

Comments on the PADs and SD1, study requests, requests for cooperating agency status, and other permissible forms of communication with the Commission or its staff may be filed electronically via the Internet in lieu of paper. See 18 CFR 385.2001(a)(1)(iii) and the instructions on the Commission's Web site (http://www.ferc.gov) under the “e-filing” link. The Commission strongly encourages electronic filings.

p. At this time, Commission staff intends to prepare an environmental assessment (EA), in accordance with the National Environmental Policy Act (NEPA). The meetings outlined below will satisfy the scoping requirements of NEPA.

Scoping Meetings

Commission staff will hold two scoping meetings in the vicinity of the project at the time and place noted below. The evening meeting is primarily for receiving input from the public, while the daytime meeting will focus on resource agency, Indian tribes, and non-governmental organization concerns. We invite all interested individuals, organizations, and agencies to attend one or both of the meetings, and to assist staff in identifying particular study needs, as well as the scope of environmental issues to be addressed in the environmental document. The times and locations of these meetings are as follows:

Evening Scoping Meeting:

Date: Monday, November 19, 2007.

Time: 7 p.m.

Location: Windham High School, 355 High Street, Willimantic, CT 06226,

Phone: (860) 465-2480.

Daytime Scoping Meeting:

Date: Tuesday, November 20, 2007.

Time: 8 a.m.

Location: Windham Town Hall, 979 Main Street, Willimantic, CT 06226, Phone: (860) 465-3000.

Scoping Document 1 (SD1), which outlines the subject areas to be addressed in the environmental document, was mailed to the individuals and entities on the Commission's mailing list on October 30, 2007. Copies of SD1 will be available at the scoping meetings, or may be viewed on the Web at http://www.ferc.gov, using the “eLibrary” link. Follow the directions for accessing information in paragraph n. Based on all oral and written comments, a Scoping Document 2 (SD2) may be issued. SD2 will include any revisions to the list of issues outlined in SD1 that are identified during the scoping process, and may include a revised process plan and schedule.

Site Visit

The potential applicants and Commission staff will conduct a site visit of the project on Monday, November 19, 2007, starting at 1p.m. All participants should meet at the Scotland Project dam, located on Station Road, Windham, CT, 06280. All participants are responsible for their own transportation. Anyone with questions about the site visit should contact Ms. Rosemary Plue at (860) 350-3607.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PADs in preparation for the scoping meetings. Instructions on how to obtain copies of the PADs and SD1 are included in item n, above.

Meeting Procedures

The meetings will be recorded by a stenographer and will become part of the formal record of the Commission proceeding on the project.

Kimberly D. Bose,
Secretary.

[FR Doc. E7-22822 Filed 11-21-07; 8:45 am]

BILLING CODE 6717-01-P